Proclamation 10245 of August 31, 2021

National Prostate Cancer Awareness Month, 2021

By the President of the United States of America

A Proclamation

In 2021, over 248,500 Americans have been diagnosed with prostate cancer. Even as we make tremendous advancements in cancer research and treatment, prostate cancer is the second most commonly diagnosed cancer and the second-leading cause of cancer deaths among our Nation's fathers, sons, husbands, and brothers. Today, one in eight men in the United States will be diagnosed with prostate cancer in his lifetime—often without any previous signs or symptoms. During National Prostate Cancer Awareness Month, we rededicate ourselves to supporting those diagnosed with prostate cancer through research, education, and access to prevention, treatment, and follow-up care and support. Together, we can increase awareness of this cancer, and improve the care and well-being of those impacted by this disease.

Awareness of the risk factors of prostate cancer can help men make informed choices about their health with their primary health care providers—especially for men over the age of 65, men who have a family history of prostate cancer, and Black men who have a higher chance of developing and suffering from prostate cancer. I encourage all men and their families to learn the latest information on prostate cancer at www.cancer.gov/types/prostate and www.cdc.gov/cancer/prostate. I also encourage every American to get recommended cancer screenings, check-ups, and treatments from your health care providers. Most importantly, talk to your doctor about your risks for developing prostate cancer.

My Administration continues to push for groundbreaking discoveries and innovative treatments to end cancer as we know it. That is why I am working to create an Advanced Research Projects Agency for Health at the National Institutes of Health—or ARPA-H—which would invest 6.5 billion dollars to develop breakthroughs that prevent, detect, and treat cancer and other deadly diseases.

I am also committed to funding research to expand prevention and treatment of prostate cancer specifically. Today, researchers funded by the National Cancer Institute are working to advance our understanding of how to prevent, detect, and treat prostate cancer. The National Institutes of Health and partners in the private sector have launched the largest-ever coordinated research effort to investigate environmental and genetic factors related to prostate cancer to better understand why it disproportionately impacts Black men. And we are working on methods to prepare more advanced early detection tests and clinical trials to develop and enhance treatments for all men.

My Administration will also continue to protect and fight to build on the Affordable Care Act (ACA) and the important protections it provides for all Americans, including for men with prostate cancer. The ACA prohibits insurance companies from restrictive annual dollar limits on benefits, and it prohibits insurers from denying coverage or charging higher premiums to patients with prostate cancer—or any other pre-existing medical condition. The ACA also helps ensure that every man with prostate cancer receives quality health care.

Our Nation has made exceptional progress in the fight against cancer, and I am committed to doing everything I can to bring together the knowledge, as well as the human and financial resources necessary to advance that progress. We owe every person who has lost their battle with this disease, every person living with this disease, and every person who may one day be diagnosed with it, our continued work to defeat it. During National Prostate Cancer Awareness Month, let us renew our efforts to save lives and spare suffering by accelerating our work to end cancer as we know it.

NOW, THEREFORE, I, JOSEPH R. BIDEN JR., President of the United States of America, by virtue of the authority vested in me by the Constitution and the laws of the United States, do hereby proclaim September 2021 as National Prostate Cancer Awareness Month. I encourage citizens, government agencies, private businesses, nonprofit organizations, and other interested groups to join in activities that will increase awareness of what Americans can do to prevent and cure prostate cancer.

IN WITNESS WHEREOF, I have hereunto set my hand this thirty-first day of August, in the year of our Lord two thousand twenty-one, and of the Independence of the United States of America the two hundred and forty-sixth.

[FR Doc. 2021-19326

Filed 9-2-21; 11:15 am]

Billing code 3295-F1-P